DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of August 2, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Jefferson County, Colorado and Incorporated Areas
Docket No.: FEMA-B-2124
City of Edgewater | Civic Center, 1800 Harlan Street, Edgewater, CO 80214.
City of Lakewood | Civic Center, Public Works, 470 South Allison Parkway, Lakewood, CO 80226.
City of Wheat Ridge | Community Development Department, 7500 West 29th Avenue, Wheat Ridge, CO 80033.
Unincorporated Areas of Jefferson County | Jefferson County Planning and Zoning Division, 100 Jefferson County Parkway, Suite 3550, Golden, CO 80419.
Liberty County, Florida and Unincorporated Areas
Docket No.: FEMA-B-2115
City of Bristol | City Clerk's Office, 12444 Northwest Virginia G. Weaver Street, Bristol, FL32321.
Unincorporated Areas of Liberty County | Liberty County Building Department, 10818 Northwest State Road 20, Bristol, FL 32321.
Wakulla County, Florida and Unincorporated Areas
Docket No.: FEMA-B-2115
Unincorporated Areas of Wakulla County | Wakulla County Planning and Community Development, 3093 Crawfordville Highway, Crawfordville, FL 32327.
Sioux County, Iowa and Incorporated Areas
Docket No.: FEMA-B-2107
City of Alton | City Hall, 905 3rd Avenue, Alton, IA 51003.
City of Boyden | City Hall, 609 East Webb Street, Boyden, IA 51234.
City of Chatsworth | Community Center, 225 North Street, Chatsworth, IA 51011.
City of Granville | City Hall, 740 Broad Street, Granville, IA 51022.
City of Hawarden | City Offices, 1150 Central Avenue, Hawarden, IA 51023.
City of Hospers | City Hall, 100 3rd Avenue South, Hospers, IA 51238.
City of Hull | City Offices, 1133 Maple Street, Hull, IA 51239.
City of Ireton | City Offices, 502 4th Street, Ireton, IA 51027.
City of Matlock | Fire Department, 555 Main Street, Matlock, IA 51244.
City of Maurice | City Offices, 315 Pine Street, Maurice, IA 51036.
City of Orange City | City Hall, 125 Central Avenue Southeast, Orange City, IA 51041.
City of Rock Valley | City Office, 1303 10th Street, Rock Valley, IA 51247.
City of Sioux Center | City Offices, 335 1st Avenue Northwest, Sioux Center, IA 51250.
Unincorporated Areas of Sioux County | Sioux County Courthouse, 210 Central Avenue Southwest, Orange City, IA 51041.

[FR Doc. 2022-08139 Filed 4-14-22; 8:45 am]

BILLING CODE 9110-12-P